DEPARTMENT OF DEFENSE

Department of the Army, Corps of Engineers

Intent to Prepare a Draft Environmental Impact Statement for a Proposed Landfill Expansion within Wetlands that Drain to Burnetts Mill Creek at the Existing Regional Landfill off Merged U.S. Routes 58, 13, and 460 in Suffolk, Virginia

AGENCY: Department of the Army, U.S. Army Corps of Engineers, DOD.

ACTION: Notice of Intent.

SUMMARY: The U.S. Army Corps of Engineers (Corps) will prepare an Environmental Impact Statement (EIS) to evaluate project alternatives and the public interest review factors, as well as the effects on 129 acres of forested wetlands for the proposed landfill expansion.

DATES: The proposed project's virtual public scoping room will be available from July 31, 2020 through September 14, 2020.

ADDRESSES: U.S. Army Corps of Engineers, Norfolk District, 803 Front Street, Norfolk, VA 23510.

FOR FURTHER INFORMATION CONTACT: Questions about the proposed action and the Draft Environmental Impact Statement (DEIS) can be answered by: Melissa Nash, U.S. Army Corps of Engineers, Norfolk District, 803 Front Street, Norfolk, VA 23510, (757) 201-7489 or email: spsa-eis@usace.army.mil.

Project website: www.nao.usace.army.mil/Missions/Regulatory/SPSAPermit/

SUPPLEMENTARY INFORMATION: 1. Proposed Action: Southeastern Public Service Authority (SPSA) proposes to expand landfill operations into Cells VIII and IX at the existing Regional Landfill. The landfill expansion would impact approximately 129 acres of nontidal, forested wetlands, which are waters of the United States regulated under Section 404 of the Clean Water Act (33 U.S.C. 1344); therefore, a Department of the Army Individual Permit would be required for the proposed action.

2. Alternatives: Alternatives, which will be investigated include, but will not be limited to: alternate onsite layouts, alternative technologies, hauling, off-site alternatives, a combination of alternatives, and the no project alternative.

3. Scoping Process: The Corps held a pre-scoping interagency meeting with State and federal agencies on May 7, 2020. The significant issues identified thus far include: potential impacts to forested wetlands, the Dismal Swamp National Wildlife Refuge, wildlife habitat, and environmental justice communities.

4. Public Scoping Meeting: The Corps will issue a Public Notice to inform the public about the project's virtual scoping meeting room, which will be a link on the project website listed above. The public and agencies will be able to submit comments to the address listed above or on the virtual scoping room from July 31, 2020 through September 14, 2020.

5. DEIS Availability: The Corps estimates that the DEIS will be available to the public for review and comment around the beginning of 2021.

Dated: July 21, 2020.
Karen J. Baker,
Programs Director, North Atlantic Division, U.S. Army Corps of Engineers.

[FR Doc. 2020-16177 Filed 7-24-20; 8:45 am]

BILLING CODE 3720-58-P